DEPARTMENT OF THE INTERIOR

Bureau of Indian Affairs

Indian Gaming

AGENCY: Bureau of Indian Affairs, Interior.

ACTION: Notice of Approval for Amended and Restated Compact.

SUMMARY: Pursuant to Section 11 of the Indian Gaming Regulatory Act of 1988 (IGRA), Pub. L. 100-497, 25 U.S.C. 2710, the Secretary of the Interior shall publish, in the Federal Register, notice of approved Tribal-State Compacts for the purpose of engaging in Class III gaming activities on Indian lands. The Assistant Secretary—Indian Affairs, Department of the Interior, through his delegated authority, has approved the Amended and Restated Compact between the Confederated Tribes of the Umatilla Indian Reservation and the State of Oregon, which was executed on December 27, 1999.

DATES: This action is effective April 3, 2000.

FOR FURTHER INFORMATION CONTACT: George T. Skibine, Director, Office of Indian Gaming Management, Bureau of Indian Affairs, Washington, DC 20240, (202) 219-4066.

Dated: March 17, 2000.
Kevin Gover,
Assistant Secretary—Indian Affairs.

[FR Doc. 00-8067 Filed 3-31-00; 8:45 am]

BILLING CODE 4310-22-P